DEPARTMENT OF COMMERCE

National Oceanic and Atmospheric Administration

[I.D. 021700C]

Pacific Fishery Management Council; Public Meeting

AGENCY: National Marine Fisheries Service (NMFS), National Oceanic and Atmospheric Administration (NOAA), Commerce.

ACTION: Notice of public meeting.

SUMMARY: The Pacific Fishery Management Council's (Council) Scientific and Statistical Committee (SSC) will hold a workshop to study the productivity of West Coast groundfish species and to evaluate the Council's harvest rate (F) policy.

DATES: The meeting will begin on Monday, March 20, 2000 at 1 p.m. and end on Friday, March 24, 2000. On Tuesday, March 21, 2000; Wednesday, March 22, 2000; Thursday, March 23, 2000, and Friday, March 24, 2000, the workshop will convene at 8:00 a.m. and will continue until business for the day is completed. An opportunity for public comment will be provided each day at 4 p.m.

ADDRESSES: The meeting will be held in building nine (9) at NMFS 7600 Sand Point Way NE., Seattle, WA 98115-0070.

Council address: Pacific Fishery Management Council, 2130 SW Fifth Avenue, Suite 224, Portland, OR 97201.

FOR FURTHER INFORMATION CONTACT: Dan Waldeck, Fishery Management Analyst; telephone: (503) 326-6352.

SUPPLEMENTARY INFORMATION: The purpose of the workshop is to review past work on spawning potential per recruit (SPR) harvest rate proxies (e.g., F35); determine their appropriateness with respect to West Coast groundfish stocks; and, if appropriate, recommend changes to existing policies. Based on information presented at the workshop, a panel of scientists will write a report to the Council that summarizes the results of the workshop and makes specific recommendations regarding the formulation of default harvest rate policies for West Coast groundfish.

The workshop will be divided into three phases. During the first half-day (March 20, 2000) participants will review the Council's groundfish harvest policy history, as well as published material pertinent to the specific harvest rate proxies that have been used. During the second and third days of the meeting (March 21-22, 2000), presentations will be made that will contribute to the overall understanding of West Coast groundfish productivity and the determination of appropriate harvest rates; particularly, the estimation of FMSY and/or its proxy. The last phase of the workshop (March 23-24, 2000) will be devoted to consensus building and report writing by the panel. Active discussion of research results following each presentation will be promoted, as will on-site analyses designed to explore different model assumptions and/or configurations.

Although non-emergency issues not contained in this notice may arise during the workshop, those issues will not be the subject of formal SSC action during this meeting. SSC action will be restricted to those issues specifically identified in this notice and any issues arising after publication of this notice that require emergency action under section 305(c) of the Magnuson-Stevens Fishery Conservation and Management Act, provided the public has been notified of the SSC's intent to take final action to address the emergency.

Special Accommodations

The meeting is physically accessible to people with disabilities. Requests for sign language interpretation or other auxiliary aids should be directed to Mr. John Rhoton at (503) 326-6352 at least 5 days prior to the meeting date.

Dated: February 22, 2000.
Bruce C. Morehead,
Acting Director, Office of Sustainable Fisheries, National Marine Fisheries Service.

[FR Doc. 00-4624 Filed 2-25-00; 8:45 am]

BILLING CODE 3510-22-F